DEPARTMENT OF EDUCATION

34 CFR Chapter III

[Docket ID ED-2016-OSERS-0022; CFDA Number: 84.421B.]

Final Priorities, Requirements, and Definition—Disability Innovation Fund—Transition Work-Based Learning Model Demonstrations

Correction

In rule document 2016-18031 beginning on page 50324 in the issue of Monday, August 1, 2016, make the following correction:

On page 50324, in the second column, under the DATES heading, in the last line “October 9, 2016” should read “September 6, 2016”.

[FR Doc. C3-2016-18031 Filed 9-9-16; 8:45 am]

BILLING CODE 1505-01-D